DEPARTMENT OF AGRICULTURE

Rural Business-Cooperative Service

Rural Utilities Service

Notice of Funds Availability (NOFA) for the Biorefinery Assistance Program

AGENCY: Rural Business-Cooperative Service and Rural Utilities Service, USDA.

ACTION: Notice on funding availability.

SUMMARY: This notice announces there will be no funds available for the Biorefinery Assistance Program for FY 2012. Applications will not be accepted under this program until further notice.

FOR FURTHER INFORMATION CONTACT: Kelley Oehler, Energy Branch, Biorefinery Assistance Program, U.S. Department of Agriculture, 1400 Independence Avenue SW., Mail Stop 3225, Washington, DC, 20250-3225. Telephone: (202) 720-6819. Email: kelley.oehler@wdc.usda.gov.

SUPPLEMENTARY INFORMATION: The Biorefinery Assistance Program provides guaranteed loans for the development and construction of commercial-scale biorefineries and for the retrofitting of existing facilities using eligible technology for the development of advanced biofuels. For Fiscal Year 2012, the Agency has not been allocated funding to support this program. Applications will not be accepted until such funds are made available to the program.

Nondiscrimination Statement

The U.S. Department of Agriculture (USDA) prohibits discrimination in all its programs and activities on the basis of race, color, national origin, age, disability, and, where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue SW., Washington, DC 20250-9410 or call (800) 795-3272 (voice) or (202) 720-6382 (TDD). USDA is an equal opportunity provider, employer, and lender.

Dated: January 20, 2012.
Dallas Tonsager,
Under Secretary, Rural Development.

[FR Doc. 2012-1701 Filed 1-26-12; 8:45 am]

BILLING CODE 3410-XY-P